DEPARTMENT OF HEALTH AND HUMAN SERVICES

Administration for Children and Families

Proposed Information Collection Activity; Comment Request

Title: Job Search Assistance (JSA) Strategies Evaluation.

OMB No.: New Collection.

Description: The Administration for Children and Families (ACF) is proposing an information collection activity as part of the Job Search Assistance (JSA) Strategies Evaluation. The proposed information collection consists of semi-structured interviews with key respondents involved with job search assistance programs in states and localities. Through this information collection and other study activities, ACF seeks to identify the types of job search assistance strategies that should be tested within the context of current TANF policies and requirements.

Respondents: State and local TANF administrators, program staff, and stakeholders such as researchers and policy experts.

Annual Burden Estimates
Instrument | Total number of respondents | Number of responses per respondent | Average burden hours per response | Total burden hours | Annual burden hours
Discussion Guide for Use with Researchers and Policy Experts | 15 | 1 | 1 | 15 | 7.5
Discussion Guide for use with State and Local TANF Administrators | 35 | 1 | 2.5 | 87.5 | 43.75
Discussion Guide for Use with Program Staff | 50 | 1 | 2 | 100 | 50

Estimated Total Annual Burden Hours: 101.25.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Steven M. Hanmer,
Reports Clearance Officer.

[FR Doc. 2013-12904 Filed 5-30-13; 8:45 am]

BILLING CODE 4184-09-P